SMALL BUSINESS ADMINISTRATION

[Disaster Declaration # 12552 and # 12553]

Georgia Disaster Number GA-00032

AGENCY: U.S. Small Business Administration.

ACTION: Amendment 2.

SUMMARY: This is an amendment of the Presidential declaration of a major disaster for the State of Georgia (FEMA-1973-DR), dated 04/29/2011.

Incident: Severe storms, tornadoes, straight-line winds, and associated flooding

Incident Period: 04/27/2011 through 04/28/2011

Effective Date: 05/02/2011

Physical Loan Application Deadline Date: 06/28/2011

EIDL loan application deadline date: 01/30/2012

ADDRESSES: Submit completed loan applications to: U.S. Small Business Administration, Processing And Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the Presidential disaster declaration for the State of GEORGIA, dated 04/29/2011 is hereby amended to include the following areas as adversely affected by the disaster:

Primary Counties: (Physical Damage and Economic Injury Loans):

Gordon, Harris, Heard, Lumpkin.

Contiguous Counties: (Economic Injury Loans Only):

Alabama

Lee.

Georgia

Fannin, Hall, Murray, Muscogee, Union, White.

All other information in the original declaration remains unchanged.

(Catalog of Federal Domestic Assistance Numbers 59002 and 59008)

James E. Rivera,
Associate Administrator for Disaster Assistance.

[FR Doc. 2011-11426 Filed 5-9-11; 8:45 am]

BILLING CODE 8025-01-P